DEPARTMENT OF EDUCATION

National Assessment Governing Board; Meeting

AGENCY: Department of Education, National Assessment Governing Board.

ACTION: Notice of open meeting and partially closed meetings.

SUMMARY: The notice sets forth the schedule and proposed agenda of a forthcoming meeting of the National Assessment Governing Board. This notice also describes the functions of the Board. Notice of this meeting is required under Section 10 (a) (2) of the Federal Advisory Committee Act. This document is intended to notify members of the general public of their opportunity to attend. Individuals who will need special accommodations in order to attend the meeting (e.g.; interpreting services, assistive listening devices, materials in alternative format) should notify Munira Mwalimu at 202-357-6938 or at Munira.Mwalimu@ed.gov no later than November 10, 2009. We will attempt to meet requests after this date, but cannot guarantee availability of the requested accommodation. The meeting site is accessible to individuals with disabilities.

DATES: November 19-21, 2009.

Times:

November 19: Committee Meetings:

Ad Hoc Committee on NAEP Testing and Reporting on Students with Disabilities and English Language Learners: Open Session—2:00 p.m. to 4:00 p.m.

Executive Committee: Open Session—4:30 p.m. to 5:30 p.m.; Closed Session—5:30 p.m. to 6:00 p.m.

November 20:

Full Board: Open Session—8:30 a.m. to 11:15 a.m.; Closed Session—11:30 a.m. to 12:30 p.m.; Open Session—3:00 p.m. to 4:30 p.m.

Committee Meetings:

Assessment Development Committee: Closed Session—12:45 p.m. to 2:00 p.m.; Open Session—2:00 p.m. to 3:00 p.m.

Committee on Standards, Design and Methodology and Reporting and Dissemination Committee: Joint Closed Session—12:45 p.m. to 1:05 p.m.

Committee on Standards, Design and Methodology: Closed Session—1:05 p.m. to 2:00 p.m.; Open Session—2:00 p.m. to 3:00 p.m.

Reporting and Dissemination Committee: Open Session—1:05 p.m. to 3:00 p.m.

November 21:

Nominations Committee: Closed Session—7:45 a.m. to 8:15 a.m.

Full Board: Closed Session—8:30 a.m. to 9:30 a.m.; Open Session—9:30 a.m. to 11:00 a.m.

Location: Sheraton Raleigh Hotel, 421 S. Salisbury Street, Raleigh, NC 27601.

FOR FURTHER INFORMATION CONTACT: Munira Mwalimu, Operations Officer, National Assessment Governing Board, 800 North Capitol Street, NW., Suite 825, Washington, DC, 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment specifications and frameworks, developing appropriate student achievement levels for each grade and subject tested, developing standards and procedures for interstate and national comparisons, developing guidelines for reporting and disseminating results, and releasing initial NAEP results to the public.

On November 19, 2009, the Ad Hoc Committee on NAEP Testing and Reporting on Students with Disabilities (SD) and English Language Learners (ELL) will meet in open session from 2:00 p.m. to 4:00 p.m. Thereafter, the Executive Committee will meet in open session from 4:30 p.m. to 5:30 p.m. and in closed session from 5:30 p.m. to 6:00 p.m. During the closed session on November 19, 2009 the Executive Committee will receive a briefing from the National Center for Education Statistics (NCES) on options for NAEP contracts covering the 2010-2012 assessment years, based on funding for Fiscal Year 2010-2011. The discussion of contract options and costs will address the implications for congressionally mandated goals and adherence to Board policies on NAEP assessments. This part of the meeting must be conducted in closed session because public discussion of this information would disclose independent government cost estimates and contracting options, adversely impacting the confidentiality of the contracting process. Public disclosure of information discussed would significantly impede implementation of the NAEP contracts, and is therefore protected by exemption 9(B) of section 552b(c) of Title 5 U.S.C.

On November 20, the full Board will meet in open session from 8:30 a.m. to 10:00 a.m. The Board will review and approve the meeting agenda and meeting minutes from the August 2009 Board meeting. Newly appointed Board members will then be introduced. The Board will also be addressed by North Carolina educators. This session will be followed by a report from the Governing Board's Executive Director and an update from the Acting Commissioner of Education Statistics on the work of the National Center for Education Statistics (NCES).

From 10:15 a.m. to 11:15 a.m., the full Board will receive a briefing on public comments received on recommendations of the Expert Panels on SD and ELL students from the Ad Hoc Committee on NAEP Testing and Reporting. The full Board will then meet in closed session from 11:30 a.m. to 12:30 p.m. to receive a briefing from NCES on the 2009 Trend Results for Reading. The Board will be provided with embargoed data that cannot be discussed in an open meeting prior to their official release. Premature disclosure of data would significantly impede implementation of the NAEP Trend Assessment program, and is therefore protected by exemption 9(B) of section 552b(c) of Title 5 U.S.C.

From 12:45 p.m. to 2:00 p.m. on November 20, the Assessment Development Committee will meet in closed session to receive a briefing from Educational Testing Service on the 2009 reading trend, reading vocabulary items, grade 12 mathematics trend, science test items, and the 2011 writing computer-based assessment. The Board will be provided with embargoed data that cannot be discussed in an open meeting prior to their official release. Premature disclosure of data would significantly impede implementation of the NAEP assessments in the subjects, and is therefore protected by exemption 9(B) of section 552b(c) of Title 5 U.S.C. Thereafter the Committee will meet in open session till 3:00 p.m.

From 12:45 p.m. to 1:05 p.m. two of the Board's standing committees—the Committee on Standards, Design and Methodology (COSDAM) and the Reporting and Dissemination Committee—will meet in a joint closed session to receive a briefing on 2009 participation rates for 12th grade students and item response rates. In addition, members will be briefed on participation rates for private schools and students for all grades in subjects assessed in 2009. These data will provide information to help determine whether participation rates are sufficient to assure reliable test results and sufficiency of response rates for reliable measurement.

Following this joint session, the Reporting and Dissemination Committee will meet in open session from 1:05 p.m. to 3:00 p.m. COSDAM will continue to meet in closed session from 1:05 p.m. to 2:00 p.m. to receive a briefing on trend results for 2009 reading and grade 12 mathematics. Members will review secure data and results on trend analyses for 2009 reading and grade 12 mathematics with respect to achievement levels. The data will inform decisions on whether the evidence is sufficient to assure the technical feasibility of maintaining trend for reporting 2009 data. COSDAM will receive a briefing on preliminary results of the 2009 science achievement levels pilot study. Members will review secure science pilot results on the percentages of students scoring at or above the cut scores set in the science pilot study, and they will review item data.

These Committee meetings will be partially closed since disclosure of the secure data, not yet released to the public, would significantly impede implementation of the NAEP reading and science assessment programs at all grades and mathematics at grade 12, and is therefore protected by exemption 9(B) of section 552b(c) of Title 5 U.S.C.

The full Board will meet in open session on November 21 from 3:00 p.m. to 4:00 p.m. to receive a briefing on the NAEP Technological Literacy Framework project. This session will be followed by an ethics briefing conducted from 4:00 p.m. to 4:30 p.m., provided to Board members from the Office of General Counsel. The November 20 session of the Board meeting is scheduled to adjourn at 4:30 p.m.

On November 21, the Nominations Committee will meet in closed session from 7:45 a.m. to 8:15 a.m. to review and discuss confidential information on nominees (to include individual names and resumes) received for Board vacancies for terms beginning on October 1, 2010. These discussions pertain solely to internal personnel rules and practices of an agency and will disclose information of a personal nature where disclosure would constitute an unwarranted invasion of personal privacy. As such, the discussions are protected by exemptions 2 and 6 of section 552b(c) of Title 5 U.S.C.

The full Board will meet in closed session on November 21 from 8:30 a.m. to 9:30 a.m. to receive a briefing on the 2009 Trial Urban District Assessment (TUDA) Mathematics Report Card. The data has not been released to the public and cannot be discussed in an open meeting. Premature disclosure of the embargoed data would significantly impede implementation of the NAEP TUDA program, and is therefore protected by exemption 9(B) of section 552b(c) of Title 5 U.S.C. Thereafter, the Board will meet in open session from 9:45 a.m. to 11:00 a.m. to review and take action on Committee reports. The November 21, 2009 session of the Board meeting is scheduled to adjourn at 11:00 a.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9:00 a.m. to 5:00 p.m. Eastern Standard Time, Monday through Friday.

Electronic Access to This Document: You may view this document, as well as all other documents of this Department published in the Federal Register, in text or Adobe Portable Document Format (PDF) on the Internet at the following site: http://www.ed.gov/news/fedregister/index.html To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: November 4, 2009.
Cornelia S. Orr,
Executive Director, National Assessment Governing Board, U.S. Department of Education.

[FR Doc. E9-27115 Filed 11-9-09; 8:45 am]

BILLING CODE 4000-01-P